DEPARTMENT OF DEFENSE

Department of the Army, Corps of Engineers

Intent To Prepare a Draft Environmental Impact Statement (EIS) for the Mississippi River-Gulf Outlet (MR-GO), Louisiana, Reevaluation Study

AGENCY: U.S. Army Corps of Engineers, DoD.

ACTION: Notice of intent.

SUMMARY: The Mississippi River-Gulf Outlet (MR-GO) is a deep-draft navigation channel built to provide the tidewater dock facilities of the Port of New Orleans, Louisiana, with direct access to the Gulf of Mexico. Construction of the channel began in 1958 and an interim channel was opened in 1963. The channel was completed to authorized dimensions of 36 feet deep by 500 feet wide in 1968. The channel is currently used by container and bulk cargo ships, as well as other deep-draft vessels that utilize the docks along the Inner Harbor Navigation Canal and MR-GO in New Orleans. Many shallow-draft vessels also use the channel. The Corps of Engineers is evaluating modifications to the MR-GO project, with a focus on alternatives that would reduce channel dimensions. Improvements and relocations planned and currently occurring in the Port of New Orleans may reduce the need for the deep draft channel. Some environmental groups and segments of the public want the MR-GO closed or reduced in size for environmental reasons and to lessen the risk of flooding from hurricane storm surge.

FOR FURTHER INFORMATION CONTACT: Questions concerning the EIS should be addressed to Mr. Richard Boe at (504) 862-1505. Mr. Boe may also be reached at FAX number (504) 682-2572 or by E-mail at richard.e.boe@mvn02.usace.army.mil. Mr. Boe's address is U.S. Army Corps of Engineers, PM-RS, P.O. Box 60267, New Orleans, Louisiana 70160-0267.

SUPPLEMENTARY INFORMATION: 1. Authority. The MR-GO was authorized by the River and Harbor Act of 1956 (P.L. 84-455). The USACE has the authority to conduct reevaluation studies of authorized projects if a significant period of time has elapsed or conditions have changed significantly since a feasibility study was completed. Construction authorities imply the authority to undertake reevaluation studies.

2. Proposed Action. The proposed action is to reduce the controlling depth of the MR-GO. Economic analyses will be performed to determine the current and future needs for the channel by various draft vessels, and the costs and benefits of maintaining channels of various sizes.

3. Alternatives. Channel depths of 12, 16, and 20 feet will be investigated. The current authorization provides for a 36-foot deep channel. Alternatives to be investigated include abandonment of channel dredging until a minimal controlling channel dimension is reached, whereupon channel maintenance would resume to maintain the new channel size. Also, structural features will be investigated to quickly reduce the controlling depth of the channel. These structures will be evaluated for their effectiveness in producing desirable effects on salinity levels and fish and wildlife habitats, especially tidal wetlands. The structures will also be evaluated for their effectiveness in reducing hurricane storm surge.

4. Scoping. Scoping is the process for determining the scope of alternatives and significant issues to be addressed in the EIS. For this study, a letter will be sent to all parties believes to have an interest in the study, requesting their input on alternatives and issues to be evaluated. The letter will also notify interested parties of a public scoping meeting that will be held in the local area. Notices will also be sent to local news media. All interested parties are invited to comment at this time, and anyone interested in this study should request to be included in the study mailing list.

A public scoping meeting will be held on August 30, 2001, at 7 pm. The meeting will be held in the St. Bernard Parish Council Meeting Room of the St. Bernard Parish Government Complex located at 8201 West Judge Perez Drive in Chalmette, Louisiana.

5. Significant Issues. The tentative list of resources and issues to be evaluated in the EIS includes tidal wetlands (marshes and swamps), aquatic resources, wildlife resources, essential fish habitat, water quality, air quality, threatened and endangered species, recreation resources, and cultural resources. Socioeconomic items to be evaluated in the EIS include navigation, flood protection, business and industrial activity, employment, land use, properly values, public/community facilities and services, tax revenues, population, community and regional growth, vehicular transportation, housing, community cohesion, and noise.

6. Environmental Consultation and Review. The U.S. Fish and Wildlife Service (USFWS) will be assisting in the documenting of existing conditions and assessment of effects of project alternatives through Fish and Wildlife Coordination Act consultation procedures. The USFWS will also provide a Fish and Wildlife Coordination Act report. Consultation will also be accomplished with the USFWS and the National Marine Fisheries Service concerning threatened and endangered species. The draft EIS or a notice of its availability will be distributed to all interested agencies, organizations, and individuals.

7. Estimated Date of Availability. Funding levels will dictate the date when the draft EIS is available. The earliest that the draft EIS may be expected to be available is mid-2002.

Luz D. Ortiz,
Army Federal Register Liaison Officer.

[FR Doc. 01-19761 Filed 8-6-01; 8:45 am]

BILLING CODE 3710-84-M